Proclamation 8065 of October 5, 2006

Columbus Day, 2006

By the President of the United States of America

A Proclamation

More than five centuries ago, Christopher Columbus boldly set out on a long and challenging journey across the Atlantic that led the way for exploration of the Americas. On Columbus Day, we celebrate the historic voyages of the Italian explorer and honor his life, heritage, and lasting legacy.

Columbus' brave expeditions expanded the horizons of human knowledge and inspired generations of risk-takers and pioneers in America and around the world. Our Nation is built on the efforts of men and women who possess both the vision to see beyond what is and the desire to pursue what might be. Today, the same passion for discovery that drove Columbus is leading bold visionaries to explore the frontiers of space, find new energy sources, and solve our most difficult medical challenges.

Columbus Day is also an opportunity to celebrate the heritage we share with the legendary explorer, the important relationship between the United States and Italy, and the proud Italian Americans who call our Nation home. Italian Americans have strengthened our country and enriched our culture, and through service in our Armed Forces, many have defended our Nation with courage and helped lay the foundation of peace for generations to come.

In commemoration of Columbus' journey, the Congress, by joint resolution of April 30, 1934, and modified in 1968 (36 U.S.C. 107), as amended, has requested that the President proclaim the second Monday of October of each year as “Columbus Day.”

NOW, THEREFORE, I, GEORGE W. BUSH, President of the United States of America, do hereby proclaim October 9, 2006, as Columbus Day. I call upon the people of the United States to observe this day with appropriate ceremonies and activities. I also direct that the flag of the United States be displayed on all public buildings on the appointed day in honor of Christopher Columbus.

IN WITNESS WHEREOF, I have hereunto set my hand this fifth day of October, in the year of our Lord two thousand six, and of the Independence of the United States of America the two hundred and thirty-first.

[FR Doc. 06-8649

Filed 10-10-06; 8:45 am]

Billing code 3195-01-P